DEPARTMENT OF ENERGY

Federal Energy Regulatory Commission

[Docket No. EG00-118-000, et al.]

Indeck Colorado, LLC, et al.; Electric Rate and Corporate Regulation Filings

April 26, 2000.

Take notice that the following filings have been made with the Commission:

1. Indeck Colorado, LLC

[Docket No. EG00-118-000]

Take notice that on April 21, 2000, Indeck Colorado, LLC, filed an amendment to its application for determination of exempt wholesale generator status.

Comment date: May 17, 2000, in accordance with Standard Paragraph E at the end of this notice. The Commission will limit its consideration of comments to those that concern the adequacy or accuracy of the application.

2. Split Rock Energy LLC and Minnesota Power, Inc.

[Docket No. ER00-1857-001]

Take notice that on April 21, 2000, Split Rock Energy LLC, and Minnesota Power, Inc., submitted an amendment to the Application of Split Rock Energy LLC, for Market-Based Rate Authority, and Proposed Revisions to Minnesota Power, Inc. Wholesale Coordination Service Tariff No. 2.

Comment date: May 12, 2000, in accordance with Standard Paragraph E at the end of this notice.

3. Puget Sound Energy, Inc.

[Docket No. ER00-2258-000]

Take notice that on April 21, 2000, Puget Sound Energy, Inc. tendered for filing an executed Mutual Netting/Settlement Agreement with PacifiCorp.

A copy of the filing was served upon PacifiCorp.

Comment date: May 12, 2000, in accordance with Standard Paragraph E at the end of this notice.

4. Puget Sound Energy, Inc.

[Docket No. ER00-2259-000]

Take notice that on April 21, 2000, Puget Sound Energy, Inc. tendered for filing an executed Mutual Netting/Settlement Agreement with PacifiCorp Power Marketing, Inc.

A copy of the filing was served upon PacifiCorp Power Marketing, Inc.

Comment date: May 12, 2000, in accordance with Standard Paragraph E at the end of this notice.

5. Commonwealth Edison Company

[Docket No. ER00-2260-000]

Take notice that on April 21, 2000, Commonwealth Edison Company (ComEd) submitted for filing four unexecuted Short-Term Firm Transmission Service Agreements (Agreements) establishing Reliant Energy Services, Inc. (RESI), Duke Energy Trading & Marketing, LLC (DETM), Constellation Power Source, Inc. (CPS), and Merchant Energy Group of the Americas, Inc. (MEGA) as short-term firm customers under the terms of ComEd's OATT.

ComEd requests various effective dates to coincide with the first day of service to RESI, DETM, CPS and MEGA under this type of Service Agreement.

Copies of this filing were served on RESI, DETM, CPS, and MEGA.

Comment date: May 12, 2000, in accordance with Standard Paragraph E at the end of this notice.

6. Allegheny Energy Service Corporation, on behalf of Monongahela Power Company, The Potomac Edison Company and West Penn Power Company (Allegheny Power)

[Docket No. ER00-2261-000]

Take notice that on April 21, 2000, Allegheny Energy Service Corporation on behalf of Monongahela Power Company, The Potomac Edison Company and West Penn Power Company (Allegheny Power) filed a request to amend Schedule 10, Retail Transmission Service, of their Pro Forma Open Access Transmission Tariff to make Schedule 10 applicable only to Pennsylvania customers, to update its provisions to reflect current circumstances, and to make conforming and editorial changes.

Copies of the filing have been provided to the Public Utilities Commission of Ohio, the Pennsylvania Public Utility Commission, the Maryland Public Service Commission, the Virginia State Corporation Commission, the West Virginia Public Service Commission, and to Schedule 10 customers.

Comment date: May 12, 2000, in accordance with Standard Paragraph E at the end of this notice.

7. FirstEnergy System

[Docket No. ER00-2262-000]

Take notice that on April 21, 2000, FirstEnergy System filed a Service Agreement to provide Firm Point-to-Point Transmission Service for Amerada Hess Corporation, the Transmission Customer. Services are being provided under the FirstEnergy System Open Access Transmission Tariff submitted for filing to the Federal Energy Regulatory Commission in Docket No. ER97-412-000.

The proposed effective date for this Service Agreement is April 10, 2000.

Comment date: May 12, 2000, in accordance with Standard Paragraph E at the end of this notice.

8. FirstEnergy System

[Docket No. ER00-2263-000]

Take notice that on April 21, 2000, FirstEnergy System filed a Service Agreement to provide Non-Firm Point-to-Point Transmission Service for Amerada Hess Corporation, the Transmission Customer. Services are being provided under the FirstEnergy System Open Access Transmission Tariff submitted for filing to the Federal Energy Regulatory Commission in Docket No. ER97-412-000.

The proposed effective date under this Service Agreement is April 10, 2000.

Comment date: May 12, 2000, in accordance with Standard Paragraph E at the end of this notice.

9. Pinnacle West Capital Corporation, and Arizona Public Service Company and APS Energy Services Company, Inc.

[Docket No. ER00-2268-000]

Take notice that on April 21, 2000, Pinnacle West Capital Corporation (PWCC), filed an application for an order authorizing it to make wholesale sales of electric power at market-based rates, waiving certain of the Commission's regulations and seeking blanket approval to engage in certain transactions. PWCC, Arizona Public Service Company and APS Energy Services Company, Inc. (collectively, the Pinnacle West Companies), also seek permission to transact among themselves at market-based rates and for modification of their wholesale code of conduct requirements and certain wholesale contracts.

Copies of this filing have been served upon all of APS's customers who take service under APS's market rate tariff and customers who are served under tariffs that include system incremental cost or fuel adjustment clauses.

Comment date: May 12, 2000, in accordance with Standard Paragraph E at the end of this notice.

10. Montana Power Company

[Docket No. SC00-1-000]

Take notice that on April 21, 2000, Montana Power Company (Montana Power) filed pursuant to the Federal Energy Regulatory Commission's (FERC) Order No. 888 and Section 205 of the Federal Power Act supplements to network transmission service agreements with Central Montana Electric Power Cooperative, Inc. (Central Montana) and Big Horn County Electric Cooperative, Inc. (Big Horn) that will enable it to recover wholesale stranded costs from such customers. Montana Power states that when it acquired its generation resources, it reasonably expected to provide wholesale electric service to Central Montana and Big Horn for the indefinite future. Montana Power further states that as a result of the determination of those customers to obtain generation services from alternative suppliers, it is entitled to recover stranded costs from them in accordance with FERC Order No. 888.

Montana Power states that because it sold substantially all of its generation resources in December 1999, the revenues-lost methodology generally followed by the FERC in stranded cost proceedings is inapplicable to calculation of its stranded costs. Montana Power has therefore proposed an alternative methodology for calculation of stranded costs and has requested a waiver of the Commission's regulations to the extent necessary to use that method.

Montana Power has proposed to make each supplement effective on June 23, 2000.

Comment date: May 26, 2000, in accordance with Standard Paragraph E at the end of this notice.

11. PacifiCorp

[Docket No. ER00-2272-000]

Take notice that on April 20, 2000, PacifiCorp filed a Certificate of Concurrence in Docket No. ER00-1583-000 which has been reassigned the above-referenced docket.

Comment date: May 11, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-10887 Filed 5-1-00; 8:45 am]

BILLING CODE 6717-01-P